FEDERAL LABOR RELATIONS AUTHORITY

5 CFR Part 2424

Negotiability Proceedings

Corrections

In Rule Document 2023-19269, appearing on pages 62445 through 62460 in the issue of Tuesday, September 12, 2023, make the following corrections:

§ 2424.2 [Corrected]

1. Beginning on page 62455, in the third column, amendatory instruction 3 is corrected to read as follows:

3. Amend § 2424.2 by revising paragraphs (a), (c)(2) and (c)(3), adding paragraphs (c)(4) through (7), and revising paragraphs (e) and (f). The revisions and additions read as follows:

§ 2424.11 [Corrected]

2. On page 62456, in the second column, in the third line from the bottom, “© Unrequested agency allegation.” should read “(c) Unrequested agency allegation.”

§ 2424.22 [Corrected]

3. On the same page, in the third column, in the fifth line from the bottom, “I Content.” should read, “(c) Content.”

§ 2424.23 [Corrected]

4. On page 62457, in the second column, in the twenty-seventh and twenty-eighth lines, “€ Discretionary extension of time limits.” should read, “(c) Discretionary extension of time limits.”

§ 2424.24 [Corrected]

5. On page the page, in the third column, in the fourth line, “I Content.” should read, “(c) Content.”

§ 2424.25 [Corrected]

6. On page 62458, in the first column, in the twenty-fourth line from the bottom, “I Content.” should read, “(c) Content.”

§ 2424.31 [Corrected]

7. On page 62459, in the second column, amendatory instruction 14 is corrected to read as follows:

14. Amend § 2424.31 by revising the heading, introductory text, and paragraph (c) to read as follows:

§ 2424.32 [Corrected]

8. On page the same page, in the third column, beginning on the nineth line, (2) and (e) are corrected to read as set forth below:

(2) Failure to respond to an argument or assertion raised by the other party may, in the Authority's discretion, be treated as conceding such argument or assertion.

(e) Failure to participate in conferences; failure to respond to Authority orders. Where a party fails to participate in a post-petition conference pursuant to § 2424.23, a direction or proceeding under § 2424.31, or otherwise fails to provide timely or responsive information pursuant to an Authority order, including an Authority procedural order directing the correction of technical deficiencies in filing, the Authority may, in addition to those actions set forth in paragraph (d) of this section, take any other action that, in the Authority's discretion, it deems appropriate, including dismissal of the petition for review (with or without prejudice to the exclusive representative's refiling of the petition for review), and granting the petition for review and directing bargaining or rescission of an agency head disapproval under 5 U.S.C. 7114(c) (with or without conditions).

§ 2424.40 [Corrected]

9. On same page, in the same column, in the sixth line from the bottom, “(d) Cases involving provisions.” should read, “(c) Cases involving provisions.”

[FR Doc. C1-2023-19269 Filed 10-5-23; 8:45 am]

BILLING CODE 0099-10-P